DEPARTMENT OF HOMELAND SECURITY

U.S. Customs and Border Protection

[Docket No. USCBP-2022-0010]

Commercial Customs Operations Advisory Committee (COAC); Meeting

AGENCY: U.S. Customs and Border Protection (CBP), Department of Homeland Security (DHS).

ACTION: Committee management; notice of Federal Advisory Committee meeting.

SUMMARY: The Commercial Customs Operations Advisory Committee (COAC) will hold its quarterly meeting on Thursday, March 31, 2022. The meeting will be open to the public via webinar only. There is no on-site, in-person option for the public to attend this quarterly meeting.

DATES: The COAC will meet on Thursday, March 31, 2022, from 1:00 p.m. to 5:00 p.m. EDT. Please note that the meeting may close early if the committee has completed its business. Comments must be submitted in writing no later than March 28, 2022.

ADDRESSES: The meeting will be open to the public via webinar. The webinar link and conference number will be provided to all registrants by 5:00 p.m. EDT on March 30, 2022. For information on facilities or services for individuals with disabilities or to request special assistance at the meeting, contact Ms. Latoria Martin, Office of Trade Relations, U.S. Customs and Border Protection, at (202) 344-1440 as soon as possible. Submit electronic comments and other data to www.regulations.gov or by email at tradeevents@cbp.dhs.gov. See SUPPLEMENTARY INFORMATION for file formats and other information about electronic filing.

FOR FURTHER INFORMATION CONTACT: Ms. Latoria Martin, Office of Trade Relations, U.S. Customs and Border Protection, 1300 Pennsylvania Avenue NW, Room 3.5A, Washington, DC 20229; or Ms. Valarie M. Neuhart, Designated Federal Officer at (202) 344-1440.

SUPPLEMENTARY INFORMATION: Notice of this meeting is given under the authority of the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Pre-registration: For members of the public who plan to participate in the webinar, please register online at https://teregistration.cbp.gov/index.asp?w=246 by 5:00 p.m. EDT by March 30, 2022. For members of the public who are pre-registered to attend the meeting via webinar and later need to cancel, please do so by 5:00 p.m. EDT March 30, 2022, utilizing the following link: https://teregistration.cbp.gov/cancel.asp?w=246.

Please feel free to share this information with other interested members of your organization or association.

To facilitate public participation, we are inviting public comment on the issues the committee will consider prior to the formulation of recommendations as listed in the Agenda section below.

Comments must be submitted in writing no later than March 28, 2022, and must be identified by Docket No. USCBP-2022-0010, and may be submitted by one (1) of the following methods:

• Federal eRulemaking Portal: http://www.regulations.gov. Follow the instructions for submitting comments.

• Email: tradeevents@cbp.dhs.gov. Include the docket number in the subject line of the message.

Instructions: All submissions received must include the words “Department of Homeland Security” and the docket number for this action. Docket: For access to the docket, go to http://www.regulations.gov and search for Docket Number USCBP-2022-0010. To submit a comment, click the “Comment Now!” button located on the top-right hand side of the docket page.

All comments received will be posted without change to https://www.cbp.gov/trade/stakeholder-engagement/coac/coac-public-meetings, including any personal information provided.

There will be multiple public comment periods held during the meeting on March 31, 2022. Speakers are requested to limit their comments to two (2) minutes or less to facilitate greater participation. Please note that the public comment period for speakers may end before the time indicated on the schedule that is posted on the CBP web page: http://www.cbp.gov/trade/stakeholder-engagement/coac.

Agenda

The COAC will hear from the current subcommittees on the topics listed below:

1. The Rapid Response Subcommittee will share details regarding the formation of the Domestic Manufacturing and Production Working Group and provide an update on the progress and plans of the Broker Modernization Working Group.

2. The Intelligent Enforcement Subcommittee will provide updates on the progress and plans on the following: The Bond Working Group will provide the overall status; the Antidumping/Countervailing Duty Working Group will provide updates regarding the progress and plans for the group; the Intellectual Property Rights Process Modernization Working Group will provide an update on the status of the group and discuss potential next steps; and the Forced Labor Working Group will provide status updates and the plans for the 16th Term of COAC.

3. The Next Generation Facilitation Subcommittee will provide an update on the progress of the 21st Century Customs Framework and E-Commerce Task Forces; the One U.S. Government Working Group will provide an update on upcoming work; the Re-Imagined Entry Processes Working Group has undergone a name change and will be known as the ACE 2.0 Working Group. The working group plans to conduct an in-depth gap analysis of processes to be improved included in the ACE 2.0 modernization.

4. The Secure Trade Lanes Subcommittee will provide an update on the status of the Customs Trade Partnership Against Terrorism (CTPAT), export modernization, in-bond modernization, and cargo operations.

Meeting materials will be available by March 22, 2022, at: http://www.cbp.gov/trade/stakeholder-engagement/coac/coac-public-meetings.

Dated: March 9, 2022.
Valarie M. Neuhart,
Deputy Executive Director, Office of Trade Relations.

[FR Doc. 2022-05388 Filed 3-14-22; 8:45 am]

BILLING CODE 9111-14-P